Title 3—

The President

Proclamation 10976 of September 29, 2025

Adjusting Imports of Timber, Lumber, and Their Derivative Products Into the United States

By the President of the United States of America

A Proclamation

1. On July 1, 2025, the Secretary of Commerce (Secretary) transmitted to me a report on his investigation into the effects of imports of timber, lumber, and their derivative products (collectively, wood products) on the national security of the United States under section 232 of the Trade Expansion Act of 1962, as amended, 19 U.S.C. 1862 (section 232). Based on the facts considered in that investigation, the Secretary found and advised me of his opinion that wood products are being imported into the United States in such quantities and under such circumstances as to threaten to impair the national security of the United States and provided recommendations for action under section 232 to adjust the imports of wood products so that such imports will not threaten to impair the national security of the United States.

2. The Secretary found that present quantities and circumstances of wood product imports are weakening our economy, resulting in the persistent threats of closures of wood mills and disruptions of wood product supply chains, among other things, and diminishing the utilization of production capacity of our domestic wood industry. Because of the state of the United States wood industry, the United States may be unable to meet demands for wood products that are crucial to the national defense and critical infrastructure. Taking into account the close relation of the economic welfare of the Nation to our national security and other relevant factors, see 19 U.S.C. 1862(d), the Secretary found that the present quantities and circumstances of the imports of wood products threaten to impair the national security as defined in section 232.

3. In reaching this conclusion, the Secretary found that wood products serve as essential inputs across multiple sectors, supporting national defense, critical infrastructure, economic stability, and industrial resilience in the United States.

4. The Secretary found that wood products are used in critical functions of the Department of War, including building infrastructure for operational testing, housing and storage for personnel and materiel, transporting munitions, as an ingredient in munitions, and as a component in missile-defense systems and thermal-protection systems for nuclear-reentry vehicles. Further, the Secretary found that wood products support multiple critical infrastructure sectors of the United States, sectors that involve assets, systems, and networks considered so vital that their incapacitation or destruction would have a debilitating effect on the national security, economic welfare, or national public health or safety of the United States. Wood products are particularly important to communications, energy, transportation, defense, and manufacturing, especially in supporting the United States power grid and transportation infrastructure.

5. The Secretary also found that while the United States possesses ample raw materials and industrial capacity to meet domestic wood products demand, wood production in the United States remains underdeveloped. At the same time, imports of wood products continue to rise, signaling foreign dependence and creating vulnerabilities in the domestic industry. Foreign subsidies and unfair trade practices are eroding the competitiveness of the United States wood products industry and disincentivizing investment and modernization. These circumstances have weakened domestic manufacturing capacity for wood products, and have increased reliance on foreign imports, weakening United States industrial resilience and placing national security and economic stability at risk.

6. The Secretary identified that these practices are threatening the United States wood products industry in a way that increases mill closures and weakens domestic capacity and employment across the United States. These closures and the attendant loss of jobs will raise costs and could inhibit the United States from fulfilling its national-security needs and demands for wood products.

7. In light of these findings, the Secretary recommended a range of actions, including actions to adjust the imports of wood products so that such imports will not threaten to impair the national security of the United States.

8. After considering the Secretary's report, the factors in section 232 (19 U.S.C. 1862(d)), and other relevant factors and information, I concur with the Secretary's finding that wood products are being imported into the United States in such quantities and under such circumstances as to threaten to impair the national security of the United States. In my judgment, and in light of the Secretary's report, the factors in section 232(d) (19 U.S.C. 1862(d)), and other relevant factors and information, I also determine that it is necessary and appropriate to adopt a plan of action that imposes tariffs, as described below, to adjust imports of wood products so that such imports will not threaten to impair the national security of the United States.

9. In my judgment, the actions in this proclamation will, among other things, strengthen supply chains, bolster industrial resilience, create high-quality jobs, and increase domestic capacity utilization for wood products such that the United States can fully satisfy domestic consumption while also creating economic benefits through increased exports. These actions will also encourage capital investment and drive innovation across the United States wood products industry, and strengthen the ability of the military and national-defense industry to domestically produce key munitions and defense systems and perform other required critical national-security functions. Modernization and renewed investment will curb further erosion of the United States wood industry and improve its efficiency, resource utilization, and product yield. These actions will adjust the imports of wood products and are necessary and appropriate to address the threat to impair the national security of the United States posed by imports of such articles.

10. To ensure the tariffs on wood products in this proclamation are not circumvented or that the purpose of this action to eliminate the threat to the national security of the United States by imports of wood products is not undermined, I deem it necessary and appropriate to establish processes to identify and impose tariffs on additional wood products, as further described below.

11. To ensure the effectiveness of the actions in this proclamation, I determine that it is necessary and appropriate to address undervaluation, as further described below. In my judgment, when there is a threat of undervaluation, it may be appropriate for specific, compound, or mixed tariffs to be imposed.

12. Consistent with the General Terms for the United States of America and the United Kingdom of Great Britain and Northern Ireland Economic Prosperity Deal (May 8, 2025), the United States intends to coordinate with the United Kingdom to adopt a structured, negotiated approach to addressing the national security threat in the wood-products industry. Furthermore, pursuant to the terms of the framework agreements I have negotiated with the European Union and Japan, I intend to ensure that the tariff rate that applies to originating wood-products of the European Union and Japan subject to this proclamation shall not exceed 15 percent.

13. Section 232 authorizes the President to take action to adjust the imports of an article and its derivatives that are being imported into the United States in such quantities or under such circumstances as to threaten to impair the national security. Section 232 includes the authority to adopt and carry out a plan of action, with adjustments over time, to address the national-security threat. That initial plan of action may include negotiations of agreements with foreign trading partners along with other actions to adjust imports to address the national security threat, including tariffs. If action under section 232 includes the negotiation of an agreement, such as one contemplated in section 232(c)(3)(A)(i), 19 U.S.C. 1862(c)(3)(A)(i), then section 232 also directs the President to take other actions he deems necessary to adjust imports and eliminate the threat that the imported article poses to national security if such an agreement is not entered into within 180 days of the date of this proclamation or is not being carried out or is ineffective, see 19 U.S.C. 1862(c)(3)(A).

14. The Secretary and the United States Trade Representative (Trade Representative) have advised me that there are ongoing negotiations of agreements with foreign trading partners that at least in part include discussions over wood products. In my judgment, and after considering the Secretary's report, the factors in section 232(d), 19 U.S.C. 1862(d), the additional information provided to me by the Secretary and the Trade Representative, and other relevant factors and information, I have decided to include in my plan of action negotiations, with adjustments to tariffs depending on the status or outcome of such negotiations. I therefore direct the Trade Representative, in consultation with the Secretary, to pursue negotiation of agreements or continue current negotiations of agreements, such as agreements contemplated in section 232(c)(3)(A)(i), 19 U.S.C. 1862(c)(3)(A)(i), to address the threatened impairment of the national security with respect to imported wood products.

15. Section 604 of the Trade Act of 1974, as amended, 19 U.S.C. 2483 (section 604), authorizes the President to embody in the Harmonized Tariff Schedule of the United States (HTSUS) the substance of statutes affecting import treatment, and actions thereunder, including the removal, modification, continuance, or imposition of any rate of duty or other import restriction.

NOW, THEREFORE, I, DONALD J. TRUMP, President of the United States of America, by the authority vested in me by the Constitution and the laws of the United States of America, including section 232, the International Emergency Economic Powers Act (50 U.S.C. 1701 et seq.) (IEEPA), section 604, and section 301 of title 3, United States Code, do hereby proclaim as follows:

(1) Except as otherwise provided in this proclamation, imports of softwood timber and lumber, as set forth in Annex I to this proclamation, shall be subject to a 10 percent ad valorem duty rate.

(2) Except as otherwise provided in this proclamation, imports of certain upholstered wooden products, as listed in Annex I to this proclamation, will be subject to a 25 percent ad valorem duty rate.

(3) Except as otherwise provided in this proclamation, imports of kitchen cabinets and vanities, as listed in Annex I to this proclamation, will be subject to a 25 percent ad valorem duty rate. This duty shall apply to completed kitchen cabinets and vanities as well as parts imported for use in kitchen cabinets and vanities.

(4) Products tariffed pursuant to this proclamation shall not be subject to any tariffs imposed by Executive Order 14257 of April 2, 2025 (Regulating Imports With a Reciprocal Tariff to Rectify Trade Practices That Contribute to Large and Persistent Annual United States Goods Trade Deficits), as amended; Executive Order 14323 of July 30, 2025 (Addressing Threats to the United States by the Government of Brazil); or Executive Order 14329 of August 6, 2025 (Addressing Threats to the United States by the Government of the Russian Federation).

(5) The rates of duty established in this proclamation shall apply with respect to goods entered for consumption, or withdrawn from warehouse for consumption, on or after 12:01 a.m. eastern daylight time on October 14, 2025. Effective January 1, 2026, the duty rate in clause 2 shall increase to 30 percent and the duty rate in clause 3 shall increase to 50 percent, and shall continue in effect, except for countries with which the United States reaches an agreement that addresses the threatened impairment of the national security posed by imports of wood products. Except as otherwise provided in this proclamation, the tariffs imposed in this proclamation are in addition to any other duties, taxes, fees, exactions, and charges applicable to such imported wood products.

(6) If any wood product is subject to tariffs under both this proclamation and Proclamation 10908 of March 26, 2025 (Adjusting Imports of Automobiles and Automobile Parts Into the United States), as amended, the wood product shall be subject to the terms and duties imposed pursuant to Proclamation 10908, as amended, and not those imposed pursuant to this proclamation. In addition, if any wood product is subject to tariffs pursuant to both this proclamation and the Executive Orders listed in section 2(b) or 2(c) of Executive Order 14289 of April 29, 2025 (Addressing Certain Tariffs on Imported Articles), as amended, the wood product shall be subject to the duties imposed pursuant to this proclamation, and not those imposed pursuant to the Executive Orders listed in section 2(b) or 2(c) of Executive Order 14289, as amended.

(7) Notwithstanding clauses 1 through 5 of this proclamation, the tariff imposed in this proclamation pursuant to section 232 that applies to imports of wood products from the United Kingdom shall not exceed 10 percent. Notwithstanding clauses 1 through 5 of this proclamation, the tariff imposed in this proclamation pursuant to section 232 that applies to imports of wood products from the European Union and Japan shall not result in a tariff that, when added to the applicable Column 1 Duty Rate in the HTSUS, exceeds 15 percent.

(8) Any product described in clauses 1 through 3 of this proclamation, except those eligible for admission as “domestic status” as described in 19 CFR 146.43, that is subject to a duty imposed by this proclamation and that is admitted into a United States foreign trade zone on or after the effective date of this proclamation may only be admitted as “privileged foreign” status as described in 19 CFR 146.41, and will be subject upon entry for consumption to any ad valorem rate of duty related to the classification under the applicable HTSUS subheading.

(9) The Secretary shall continue to monitor imports of wood products and shall, from time to time, in consultation with any senior executive branch official the Secretary deems appropriate, review the status of imports of wood products with respect to the national security of the United States. The Secretary shall inform the President of any circumstances that, in the Secretary's opinion, might indicate the need for further action by the President under section 232. By October 1, 2026, the Secretary shall provide the President with an update on imports of hardwood timber and lumber, their markets, and the domestic industry, so that the President may determine whether imposing an additional duty on imports of hardwood timber or lumber, such as the phased import duty recommended by the July 1, 2025, report, as well as any additional duties on derivatives of such products, is warranted to address a threat to national security. The Secretary shall also inform the President of any circumstance that, in the Secretary's opinion, might indicate that the increase in duty rate provided for in this proclamation is no longer necessary.

(10) The Trade Representative, in consultation with the Secretary and any senior official the Trade Representative deems appropriate, shall pursue negotiations of agreements or continue current negotiations of agreements to address the threatened impairment of the national security with respect to imported wood products from any country. The Trade Representative, in consultation with the Secretary, shall, from time to time, update me on the status or outcome of the negotiations described in this proclamation. At a minimum, the Trade Representative shall provide one such update before January 1, 2026, and a subsequent update no later than 180 days after the date of this proclamation.

(11) The Secretary, in consultation with the United States International Trade Commission and the Commissioner of U.S. Customs and Border Protection (CBP), shall determine whether any modifications to the HTSUS are necessary to effectuate this proclamation and shall make such modifications through notice in the Federal Register.

(12) Given the actions directed in this proclamation, and having considered the actions needed to address the emergency declared in Executive Order 14257, as amended, I am directing that, effective for goods entered for consumption, or withdrawn from warehouse for consumption, on and after 12:01 eastern daylight time on October 14, 2025, all tariff provisions under Chapter 44 of the HTSUS are hereby removed from Annex II of Executive Order 14257, as amended, except those tariff provisions that: (i) are included on the Potential Tariff Adjustments for Aligned Partners Annex of Executive Order 14346 of September 5, 2025 (Modifying the Scope of Reciprocal Tariffs and Establishing Procedures for Implementing Trade and Security Agreements), and (ii) do not include products of a type that are subject to an antidumping or countervailing duty order.

(13) To the extent consistent with applicable law and the purpose of this proclamation, the Secretary of Commerce and the Secretary of Homeland Security are directed and authorized to take all actions that are appropriate to implement and effectuate this proclamation and any actions contemplated by this proclamation, including, consistent with applicable law, the issuance of regulations, rules, guidance, and procedures and the temporary suspension or amendment of regulations, within their respective jurisdictions, and to employ all powers granted to the President under section 232, as may be appropriate to implement and effectuate this proclamation. The Secretary of Commerce and the Secretary of Homeland Security may, consistent with applicable law, including 3 U.S.C. 301, redelegate any of these functions within their respective agencies. All executive departments and agencies shall take all appropriate measures to implement and effectuate this proclamation.

(14) Drawback shall be available with respect to the duties imposed pursuant to this proclamation.

(15) CBP may take any appropriate measure to administer the tariffs imposed by this proclamation.

(16) The Secretary shall establish a process for including additional wood products within the scope of the tariffs described in this proclamation. The Secretary may add additional wood products within the scope of the tariffs described in this proclamation if, after considering the information from his monitoring of wood product imports with respect to the national security, any factor the Secretary deems appropriate, among other relevant information or considerations, the Secretary determines that inclusion of the additional wood product will reduce or eliminate the national security threat found in this proclamation and is consistent with the purpose of this proclamation. Appropriate factors include whether imports of the wood product have increased in a manner that threatens to impair the national security or otherwise undermines the objectives set forth in this proclamation. The process the Secretary establishes may include receiving requests or information from domestic producers of wood products or other interested entities or individuals.

(17) The Secretary shall establish a process for determining whether there is a threat of undervaluation of wood product imports subject to tariffs pursuant to this proclamation. If the Secretary finds that there is a risk of undervaluation of any particular class of imports of wood products subject to tariffs imposed pursuant to this proclamation, the Secretary is authorized to impose specific, compound, or mixed tariffs at a rate that he determines to correspond approximately to the ad valorem duty rate otherwise in effect under section 232 for the same class of articles through notice in the Federal Register.

(18) Any provision of previous proclamations and Executive Orders that is inconsistent with the actions taken in this proclamation is superseded to the extent of such inconsistency. If any provision of this proclamation or the application of any provision to any individual or circumstance is held to be invalid, the remainder of this proclamation and the application of its provisions to any other individuals or circumstances shall not be affected.

IN WITNESS WHEREOF, I have hereunto set my hand this twenty-ninth day of September, in the year of our Lord two thousand twenty-five, and of the Independence of the United States of America the two hundred and fiftieth.

Billing code 3395-F4-P

[FR Doc. 2025-19482

Filed 10-3-25; 11:15 am]

Billing code 7020-02-C